SMALL BUSINESS ADMINISTRATION

Reporting and Recordkeeping Requirements Under OMB Review

AGENCY: Small Business Administration.

ACTION: Notice of 30 day Reporting Requirements Submitted for OMB Review.

SUMMARY: Under the provisions of the Paperwork Reduction Act (44 U.S.C. Chapter 35), agencies are required to submit proposed reporting and recordkeeping requirements to OMB for review and approval, and to publish a notice in the Federal Register notifying the public that the agency has made such a submission.

DATES: Submit comments on or before August 22, 2013. If you intend to comment but cannot prepare comments promptly, please advise the OMB Reviewer and the Agency Clearance Officer before the deadline.

Copies: Request for clearance (OMB 83-1), supporting statement, and other documents submitted to OMB for review may be obtained from the Agency Clearance Officer.

ADDRESSES: Address all comments concerning this notice to: Agency Clearance Officer, Curtis Rich, Small Business Administration, 409 3rd Street, SW., 5th Floor, Washington, DC 20416; and OMB Reviewer, Office of Information and Regulatory Affairs, Office of Management and Budget, New Executive Office Building, Washington, DC 20503.

FOR FURTHER INFORMATION CONTACT: Curtis Rich, Agency Clearance Officer, (202) 205-7030 curtis.rich@sba.gov.

SUPPLEMENTARY INFORMATION:

Title: Entrepreneurial Development Management Information System (EDMIS) Customer Intake Form & Management Training Report Form.

Frequency: On Occasion.

SBA Form Numbers: 641, 888.

Description of Respondents: 641 respondents: Individuals that receive counseling and training through SBA's resource partners. In addition, the resource partners themselves fill out part of the 641 form.

Responses: 1,265,000.

Annual Burden: 460,888.

Curtis Rich,
Management Analyst.

[FR Doc. 2013-17623 Filed 7-22-13; 8:45 am]

BILLING CODE P